DEPARTMENT OF COMMERCE

National Oceanic and Atmospheric Administration

50 CFR Part 648

[Docket No. 150630567-7360-02]

RIN 0648-BF26

Magnuson-Stevens Fishery Conservation and Management Act Provisions; Fisheries of the Northeastern United States; Northeast Groundfish Fishery; Amendment 18

Correction

In rule document 2017-8035 beginning on page 18706 in the issue of Friday, April 21, 2017, make the following correction:

On page 18713, in the first column, in the second paragraph, the first sentence should read “This final rule contains a collection-of-information requirement subject to the Paperwork Reduction Act (PRA) and which has been approved by OMB under control number 0648-0752.”.

[FR Doc. C1-2017-08035 Filed 4-27-17; 8:45 am]

BILLING CODE 1301-00-D